INTERNATIONAL TRADE COMMISSION

[Investigation Nos. 731-TA-929 to 931 (Final)]

Silicomanganese From India, Kazakhstan and Venezuela; Notice of Commission Determination to Conduct a Portion of the Hearing in Camera

AGENCY: International Trade Commission.

ACTION: Closure of a portion of a Commission hearing to the public.

SUMMARY: Upon request of Transnational Co. Kazchrome and Aksu Ferroalloy Plant and Considar, Inc. (collectively “K&C”), the Commission has determined to conduct a portion of its hearing in the above-captioned investigation scheduled for April 2, 2002, in camera. See Commission rules 207.24(d), 201.13(m) and 201.36(b)(4) (19 CFR 207.24(d), 201.13(m) and 201.36(b)(4)). The remainder of the hearing will be open to the public. The Commission has determined that seven-day advance notice of the change to a meeting was not possible. See Commission rule 201.35(a), (c)(1) (19 CFR 201.35(a), (c)(1)).

FOR FURTHER INFORMATION CONTACT: Laurent de Winter, Office of General Counsel, U.S. International Trade Commission, 500 E Street, SW., Washington, DC 20436, telephone 202-708-5452, e-mail lwinter@usitc.gov. Hearing-impaired individuals are advised that information on this matter may be obtained by contacting the Commission's TDD terminal on 202-205-1810.

SUPPLEMENTARY INFORMATION: The Commission believes that K&C have justified the need for a closed session. They seek a closed session to allow testimony concerning petitioner's financial performance, capacity utilization, and market share. Because there is only one domestic producer of silicomanganese, such discussions will necessitate disclosure of business proprietary information (BPI), and they can only occur if a portion of the hearing is held in camera. In making this decision, the Commission nevertheless reaffirms its belief that whenever possible its business should be conducted in public.

The hearing will include the usual public presentations by petitioners and by respondents, with questions from the Commission. In addition, the hearing will include an in camera session for a confidential presentation by K&C and a rebuttal presentation by petitioner. Questions from the Commission relating to the BPI will follow each of the in camera presentations. During the in camera session the room will be cleared of all persons except those who have been granted access to BPI under a Commission administrative protective order (APO) and are included on the Commission's APO service list in this investigations. See 19 CFR 201.35(b)(1), (2). The time for the parties' presentations and rebuttals in the in camera session will be taken from their respective overall allotments for the hearing. All persons planning to attend the in camera portions of the hearing should be prepared to present proper identification.

Authority: On behalf of the General Counsel, the Deputy General Counsel has certified, pursuant to Commission Rule 201.39 (19 CFR § 201.39) that, in his opinion, a portion of the Commission's hearing in Silicomanganese from India, Kazakhstan and Venezuela, Invs. Nos. 731-TA-929 to 931 (Final) may be closed to the public to prevent the disclosure of BPI.

Issued: April 1, 2002.
By order of the Commission.
Marilyn R. Abbott,
Secretary.

[FR Doc. 02-8136 Filed 4-3-02; 8:45 am]

BILLING CODE 7020-02-P